DEPARTMENT OF DEFENSE

Office of the Secretary

[Docket ID: DoD-2020-OS-0064]

Privacy Act of 1974; System of Records

AGENCY: National Reconnaissance Office (NRO), Department of Defense (DoD).

ACTION: Rescindment of a System of Records Notice (SORN).

SUMMARY: The NRO is rescinding a System of Records, Health and Fitness Evaluation Records, QNRO-01. The purpose of this System of Records was to provide fitness assessments and design individual wellness programs. The NRO Health and Fitness Evaluation Program was discontinued and the supporting information system was decommissioned. The system records were destroyed in accordance with the record retention and disposal policy as specified in the SORN.

DATES: This System of Records rescindment is effective upon publication.

FOR FURTHER INFORMATION CONTACT: Mr. Mike Lavergne, NRO, Advanced Systems and Technology Directorate, 14675 Lee Road, Chantilly, VA 20151-1715 or by phone at (703) 227-9022 or email, lavergnm@nro.mil.

SUPPLEMENTARY INFORMATION: The NRO Health and Fitness Program was decommissioned and all records were destroyed in accordance with the records retention and disposal policies in the published SORN.

The DoD notices for Systems of Records subject to the Privacy Act of 1974 (5 U.S.C. 552a), as amended, have been published in the Federal Register and are available from the address in FOR FURTHER INFORMATION CONTACT or at the Defense Privacy, Civil Liberties and Transparency Division website at https://dpcld.defense.gov.

The proposed system reports, as required by the Privacy Act, as amended, were submitted on June 12, 2020, to the House Committee on Oversight and Reform, the Senate Committee on Homeland Security and Governmental Affairs, and the Office of Management and Budget (OMB) pursuant to Section 6 of OMB Circular No. A-108, “Federal Agency Responsibilities for Review, Reporting, and Publication under the Privacy Act,” revised December 23, 2016 (December 23, 2016, 81 FR 94424).

System Name and Number

Health and Fitness Evaluation Records, QNRO-01.

History

April 4, 2006, 71 FR 16768; August 22, 2000, 65 FR 50969.

Dated: June 29, 2020.
Aaron T. Siegel,
Alternate OSD Federal Register Liaison Officer, Department of Defense.

[FR Doc. 2020-14373 Filed 7-2-20; 8:45 am]

BILLING CODE 5001-06-P